DEPARTMENT OF THE INTERIOR

Bureau of Land Management

[NM-030-1430-EU; NMNM 96514]

Notice of Realty Action (NORA); Notice of Termination of Recreation and Public Purposes (R&PP) Classification, Opening Order

AGENCY: Bureau of Land Management (BLM), Interior.

ACTION: Notice.

SUMMARY: This notice terminates Recreation and Public Purposes (R&PP) Classification NMNM 96514 in its entirety and opens the surface and mineral estate to entry pursuant to sections 203 and 209 of the Federal Land Policy and Management Act (FLPMA) of 1976 (43 U.S.C. 1713, 1719).

DATES: Termination of the Classification is effective upon publication of this notice. The land will be open to entry at 8 a.m. on October 3, 2002.

ADDRESSES: BLM, Las Cruces Field Office, 1800 Marquess, Las Cruces, New Mexico 88005.

FOR FURTHER INFORMATION CONTACT: Lorraine Salas, Realty Specialist at the address above or by calling (505) 525-4388.

SUPPLEMENTARY INFORMATION: The original R&PP lease was issued on February 7, 1997 for a term of 25 years to Las Cruces Public Schools. The lease was terminated on October 10, 2001. The NORA was published in the Federal Register on December 2, 1996 (61 FR 63857-63858) announcing the suitability of the land for classification for lease or conveyance to the Las Cruces Public School District under the R&PP Act, as amended (43 U.S.C. 869 et seq.). The Las Cruces Public School District proposed to use the land for a Regional Park and Sports Complex. The land is described as follows:

T. 22 S., R. 2 E., NMPM

Sec. 11, lot 2, S½S½NE¼, portion of S½S½NW¼, E½SW¼, NW¼SW¼, SE¼.

Containing 326.8 acres, more or less.

Amy L. Lueders,
Field Manager, Las Cruces.

[FR Doc. 02-22393 Filed 8-30-02; 8:45 am]

BILLING CODE 1430-VC-P